DEPARTMENT OF JUSTICE

Antitrust Division

Notice Pursuant to the National Cooperative Research and Production Act of 1993—Security Work Order Collaboration

Notice is hereby given that, on April 26, 2007, pursuant to Section 6(a) of the National Cooperative Research and Production Act of 1993, 15 U.S.C. 4301 et seq. (“the Act”), Security Work Order Collaboration (“SWOC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: BMW of North America, LLC, Woodcliff Lake, NJ; NTRU Cryptosystems, Inc., Acton, MA; TechnoCom Corporation, Encino, CA; and Telcordia Technologies, Inc., Piscataway, NJ. The general area of SWOC's planned activity is the implementation of various software security elements relating to the vehicle infrastructure integration system, a national infrastructure to enable data collection and exchange in real time between vehicles, and between vehicles and the roadway.

Patricia A. Brink,
Deputy Director of Operations, Antitrust Division.

[FR Doc. 07-3411 Filed 7-12-07; 8:45 am]

BILLING CODE 4410-11-M